DEPARTMENT OF TRANSPORTATION

Federal Aviation Administration

14 CFR Part 71

[Docket No. FAA-2005-21694; Airspace Docket No. 04-ASO-16]

RIN 2120-AA66

Establishment of Area Navigation Instrument Flight Rules Terminal Transition Routes (RITTR); Jacksonville, FL

AGENCY: Federal Aviation Administration (FAA), DOT.

ACTION: Final rule.

SUMMARY: This action establishes five Area Navigation Instrument Flight Rules Terminal Transition Routes (RITTR) in the Jacksonville, FL terminal area. The FAA originally proposed to establish seven routes as part of this action, but decided not to implement routes T-206 and T-210 at this time. RITTRs are low altitude Air Traffic Service (ATS) routes, based on area navigation (RNAV), for use by aircraft having instrument flight rules (IFR)-approved Global Positioning System (GPS)/Global Navigation Satellite System (GNSS) equipment. The purpose of RITTR is to expedite the handling of IFR overflight traffic through busy terminal airspace areas. The FAA is taking this action to enhance safety and the efficient use of the navigable airspace in the Jacksonville, FL, terminal area.

EFFECTIVE DATE: 0901 UTC, December 22, 2005.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

History

On July 1, 2005, the FAA published in the Federal Register a notice of proposed rulemaking to establish seven RITTRs in the Jacksonville, FL, terminal area (70 FR 38053). Interested parties were invited to participate in this rulemaking effort by submitting written comments on this proposal to the FAA. No comments were received in response to the NPRM. After the comment period closed, an aviation organization contacted the FAA to request an additional comment period as the proposal was incorrectly listed in the July 1, 2005, Federal Register Table of Contents. In view of the request, and since no comments were received during the original comment period, the FAA reopened the comment period on September 28, 2005 (70 FR 56606). One comment was received.

Analysis of Comments

The commenter wrote in support of the proposal and added recommendations that the routes be available at multiple altitudes; that the FAA incorporate guidance to allow pilots operating under visual flight rules (VFR) to use the routes when transitioning through terminal airspace; and that the FAA continue working with users to identify and chart needed routes through busy terminal areas.

Regarding route altitudes, the charted depiction will include a GNSS minimum enroute altitude (MEA), but specific flight altitudes are not identified. Altitude assignments for the routes will be based on various factors including the flight plan filed altitude, air traffic volume, and available altitudes within the airspace allocated to Jacksonville, FL, Terminal Radar Approach Control (TRACON).

Concerning the recommendation for use of the routes by VFR aircraft, the FAA does not plan to issue guidance at this time. RITTRs were developed specifically to provide routing for GNSS-equipped aircraft, that are operating on an IFR flight plan, to transition through busy terminal areas. The fixes/waypoints used to define the routes do not have associated visual landmarks for reference by VFR pilots when navigating through the area. There are a number of programs in place to assist VFR pilots in either avoiding or transitioning through Class B airspace or other airspace areas, where needed, such as the Charted VFR Flyway Planning Chart Program, the Terminal Area VFR Route Program, and the VFR Waypoint Chart Program. These flyways, routes and waypoints, when designated, are depicted on the appropriate VFR Terminal Area Charts. VFR aircraft desiring to transit Class B airspace must obtain air traffic control (ATC) clearance to operate in Class B airspace. ATC may approve or deny requests from VFR aircraft to operate in or through Class B airspace based on controller workload, operational limitations and traffic conditions. In this respect, pilots of a suitably equipped VFR aircraft could request transit through the area along a RITTR track, but the request would be subject to ATC approval as described above.

Lastly, the FAA remains committed to the goal of expanded use of RNAV in the National Airspace System. Work is in progress to identify additional locations where RITTRs would enhance the efficient use of the navigable airspace.

Discussion

This rule incorporates changes to some of the routes that were proposed in the NPRM based on further analysis of ATC requirements and/or to correct typographical errors. T-208 is amended by adding a segment to extend the route from the CARRA fix southeastward to the Ormond Beach, FL, VORTAC. T-211 is amended by adding a segment to extend the route from the CARRA fix northward to the Craig, FL, VORTAC. These extensions provide additional links to the VOR Federal airway structure.

Due to a typographical error in the description of route T-208, the three-letter identifier for the Gators, FL, VORTAC was incorrectly stated in the NPRM as “GVN.” The correct Gators identifier is “GNV” and is corrected in this rule. In addition, in the NPRM, the points CARRA and MONIA were identified as “WP” (waypoint). These points are actually existing charted navigation fixes, therefore an editorial change to the affected route descriptions is being made in this rule to replace “WP” with “fix.” Also, the order of the points listed in the descriptions of routes T-205 and T-207 is reversed in this rule to match flight inspection forms which utilize a “south to north” orientation. This does not affect the actual alignment of T-205 or T-207.

The FAA decided not to implement two of the proposed routes at this time. It was determined that route T-206 is not needed by ATC. Additionally, route T-210, between the Taylor, FL, VORTAC and the Cecil, FL, VOR, requires further modification and will be addressed by separate rulemaking action at a later date.

With the exception of editorial changes, and the changes described above, this amendment is the same as that proposed in the notice.

Low altitude Area Navigation Routes are published in paragraph 6011 of FAA Order 7400.9N dated September 1, 2005 and effective September 15, 2005, which is incorporated by reference in 14 CFR 71.1. The routes listed in this document will be published subsequently in the order.

The Rule

This action amends Title 14 Code of Federal Regulations (14 CFR) part 71 by establishing five RITTRs, designated as T-204, T-205, T-207, T-208, and T-211, in the Jacksonville, FL, terminal area. These routes will be depicted in blue on the appropriate IFR en route low altitude charts. RITTRs are low altitude RNAV routes designed to facilitate the expeditious movement of IFR overflight traffic around or through certain congested terminal airspace areas. The routes may be used by GNSS-equipped aircraft that are capable of filing flight plan equipment suffix “/G.” The FAA is taking this action to enhance safety and facilitate the more flexible and efficient use of the navigable airspace for en route IFR aircraft transitioning through the Jacksonville, FL, terminal area.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

The Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 15, 2005, is amended as follows:

Paragraph 6011 Area Navigation Routes

* * * * *

T-204 Taylor, FL to Brunswick, GA [New]
Taylor, FL (TAY) | VORTAC | (Lat. 30°30′17″ N., long. 82°33′11″ W.)
Brunswick, GA (SSI) | VORTAC | (Lat. 31°03′02″ N., long. 81°26′46″ W.)
* * * * * * *
T-205 Ocala, FL to Valdosta, GA [New]
Ocala, FL (OCF) | VORTAC | (Lat. 29°10′39″ N., long. 82°13′35″ W.)
Valdosta, GA (OTK) | VOR/DME | (Lat. 30°46′50″ N., long. 83°16′47″ W.)
* * * * * * *
T-207 Ormond Beach, FL to Waycross, GA [New]
Ormond Beach, FL (OMN) | VORTAC | (Lat. 29°18′12″ N., long. 81°06′46″ W.)
CARRA | Fix | (Lat. 29°43′51″ N., long. 81°36′29″ W.)
Cecil, FL (VQQ) | VOR | (Lat. 30°12′47″ N., long. 81°53′27″ W.)
MONIA, FL | Fix | (Lat. 30°28′49″ N., long. 82°02′53″ W.)
Waycross, GA (AYS) | VORTAC | (Lat. 31°16′10″ N., long. 82°33′23″ W.)
* * * * * * *
T-208 Gators, FL to Ormond Beach, FL [New]
Gators, FL (GNV) | VORTAC | (Lat. 29°41′32″ N., long. 82°16′23″ W.)
CARRA | Fix | (Lat. 29°43′51″ N., long. 81°36′29″ W.)
Ormond Beach, FL (OMN) | VORTAC | (Lat. 29°18′12″ N., long. 81°06′46″ W.)
* * * * * * *
T-211 Ocala, FL to Craig, FL [New]
Ocala, FL (OCF) | VORTAC | (Lat. 29°10′39″ N., long. 82°13′35″ W.)
JUTTS | WP | (Lat. 29°36′00″ N., long. 82°02′00″ W.)
CARRA | Fix | (Lat. 29°43′51″ N., long. 81°36′29″ W.)
Craig, FL (CRG) | VORTAC | (Lat. 30°20′20″ N., long. 81°30′36″ W.)
* * * * * * *

Issued in Washington, DC on October 27, 2005.
Edith V. Parish,
Manager, Airspace and Rules.

[FR Doc. 05-21879 Filed 11-1-05; 8:45 am]

BILLING CODE 4910-13-P